FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than January 3, 2022.

A. Federal Reserve Bank of Richmond (Adam M. Drimer, Assistant Vice President) 701 East Byrd Street, Richmond, Virginia 23219. Comments can also be sent electronically to Comments.applications@rich.frb.org:

1. PL Capital, LLC, a limited liability company; Goodbody/PL Capital LLC, a limited liability company; Financial Edge Fund, L.P., a limited partnership; Financial Edge-Strategic Fund, L.P., a limited partnership; PL Capital/Focused Fund, L.P., a limited partnership; Goodbody/PL Capital, L.P., a limited partnership; PL Capital Advisors, LLC, a limited liability company; and Messrs. John William Palmer and Richard John Lashley, all of Naples, Florida; to acquire voting shares of Old Point Financial Corporation, and thereby indirectly acquire voting shares of The Old Point National Bank of Phoebus, both of Hampton, Virginia.

Board of Governors of the Federal Reserve System, December 13, 2021.
Michele Taylor Fennell,
Deputy Associate Secretary of the Board.

[FR Doc. 2021-27297 Filed 12-16-21; 8:45 am]

BILLING CODE 6210-01-P